DEPARTMENT OF COMMERCE

Foreign-Trade Zones Board

[B-29-2016]

Proposed Foreign-Trade Zone—Vancouver, Washington; Under Alternative Site Framework

An application has been submitted to the Foreign-Trade Zones (FTZ) Board by the Port of Vancouver USA to establish a foreign-trade zone in the Vancouver, Washington, area, within and adjacent to the Portland, Oregon CBP port of entry, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on May 4, 2016. The applicant is authorized to make the proposal under the State of Washington Statute RCW 53.08.030.

The proposed zone would be the 2nd zone for the Portland Oregon CBP port of entry. The existing zone is as follows: FTZ 45, Portland, Oregon (Grantee: Port of Portland, Board Order 140, December 18, 1978).

The applicant's proposed service area under the ASF would be Clark County, Washington. If approved, the applicant would be able to serve sites throughout the service area based on companies' needs for FTZ designation. The proposed service area is within and adjacent to the Portland, Oregon U.S. Customs and Border Protection port of entry.

The proposed zone would include one “magnet” site: Proposed Site 1 (485 acres)—Port of Vancouver Complex, Terminals 2, 3, 4, and 5, Harborside Drive and Gateway Avenue, Vancouver, Clark County. The ASF allows for the possible exemption of one magnet site from the “sunset” time limits that generally apply to sites under the ASF, and the applicant proposes that Site 1 be so exempted.

The application indicates a need for zone services in the Vancouver, Washington area. Several firms have indicated an interest in using zone procedures for warehousing/distribution activities for a variety of products. Specific production approvals are not being sought at this time. Such requests would be made to the FTZ Board on a case-by-case basis.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is July 11, 2016. Rebuttal comments in response to material submitted during the foregoing period may be submitted during the subsequent 15-day period to July 25, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: May 4, 2016.
Andrew McGilvray,
Executive Secretary.

[FR Doc. 2016-10997 Filed 5-10-16; 8:45 am]

BILLING CODE 3510-DS-P